DEPARTMENT OF AGRICULTURE

Forest Service

Pennington County Resource Advisory Committee

AGENCY: Forest Service, USDA.

ACTION: Notice of meeting.

SUMMARY: The Pennington County Resource Advisory Committee will meet in Rapid City, SD. The committee is meeting as authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meeting is open to the public. The purpose of the meeting is to review and recommend project proposals authorized under title II of the Act.

DATES: The meetings will be held September 11 and September 27, 2012, at 5:00 p.m.

ADDRESSES: The meetings will be held at the Mystic Ranger District Office at 8221 South Highway 16. Written comments should be sent to Jon M. Stansfield, 8221 South Highway 16, Rapid City, SD 57702. Comments may also be sent via email to jstansfield@fs.fed.us, or via facsimile to 605-343-7134.

All comments, including names and addresses when provided, are placed in the record and are available for public inspection and copying. The public may inspect comments received at the Mystic Ranger District office. Visitors are encouraged to call ahead at 605-343-1567 to facilitate entry into the building.

FOR FURTHER INFORMATION CONTACT: Jon M. Stansfield, Acting District Ranger, Mystic Ranger District, 605-343-1567.

Individuals who use telecommunication devices for the deaf (TDD) may call the Federal Information Relay Service (FIRS) at 1-800-877-8339 between 8 a.m. and 8 p.m., Eastern Standard Time, Monday through Friday.

SUPPLEMENTARY INFORMATION: Meetings are open to the public. The following business will be conducted: Review and recommend project proposals authorized under title II of the Act.

Persons who wish to bring matters to the attention of the Committee may submit comments in the form of written correspondence to the Committee staff before or after the meeting.

Dated: August 10, 2012.
Craig Bobzien,
Forest Supervisor.

[FR Doc. 2012-20217 Filed 8-16-12; 8:45 am]

BILLING CODE 3410-11-P